GENERAL SERVICES ADMINISTRATION

[Notice-2011-03; Docket No. 2011-0006; Sequence 16]

The President's Management Advisory Board (PMAB); Notification of Upcoming Public Advisory Meeting

AGENCY: Office of Executive Councils, U. S. General Services Administration (GSA).

ACTION: Meeting Notice.

SUMMARY: The President's Management Advisory Board (PMAB), a Federal Advisory Committee established in accordance with the Federal Advisory Committee Act (FACA), 5 U.S.C., App., and Executive Order 13538, will hold a public teleconference meeting on September 23, 2011.

DATES: Effective date: August 30, 2011.

Meeting date: The teleconference meeting will be held on Friday, September 23, 2011, beginning at 10:30 a.m. eastern time, ending no later than 12 p.m.

FOR FURTHER INFORMATION CONTACT: Mr. Stephen Brockelman, Designated Federal Officer, President's Management Advisory Board, Office of Executive Councils, General Services Administration, 1776 G Street NW., Washington, DC 20006, at stephen.brockelman@gsa.gov.

SUPPLEMENTARY INFORMATION:

Background: The PMAB was established to provide independent advice and recommendations to the President and the President's Management Council on a wide range of issues related to the development of effective strategies for the implementation of best business practices to improve Federal Government management and operation, with a particular focus on productivity and the application of technology.

Agenda: The main purpose of this meeting is for the full PMAB to discuss and vote on initial recommendations presented by PMAB's Information Technology (IT) and Senior Executive Service (SES) subcommittees. The Board is examining recommendations and leading business practices that have the potential to improve government performance in the areas of IT portfolio and project management, IT vendor performance management, SES leadership development, and SES performance appraisal systems. The meeting minutes will be available after the meeting on the PMAB Web site. http://www.whitehouse.gov/administration/advisory-boards/pmab.

Meeting Access: The teleconference meeting is open to the public; interested members of the public may listen to the PMAB's discussion using 1 (888) 323-9795 and passcode 7672250. Members of the public will not have the opportunity to ask questions or otherwise participate in the teleconference. However, members of the public wishing to comment on the discussion or topics outlined in the Agenda should follow the steps detailed in Procedures for Providing Public Comments below.

Availability of Materials for the Meeting: Please see the PMAB Web site (http://www.whitehouse.gov/administration/advisory-boards/pmab) for any available materials.

Procedures for Providing Public Comments: In general, public statements will be posted on the White House Web site (http://www.whitehouse.gov/administration/advisory-boards/pmab). Non-electronic documents will be made available for public inspection and copying in PMAB offices at GSA, 1776 G Street NW., Washington, DC 20006, on official business days between the hours of 10 a.m. and 5 p.m. eastern time. You can make an appointment to inspect statements by telephoning (202) 501-1398. All statements, including attachments and other supporting materials received, are part of the public record and subject to public disclosure. Any statements submitted in connection with the PMAB meeting will be made available to the public under the provisions of the Federal Advisory Committee Act.

The public is invited to submit written statements for this meeting to the Advisory Committee prior to the meeting no later than 5 p.m. on September 22, 2011, preferably earlier, by either of the following methods:

Electronic Statements: Submit written statements to Stephen Brockelman, Designated Federal Officer at stephen.brockelman@gsa.gov; or

Paper Statements: Send paper statements in triplicate to Stephen Brockelman at President's Management Advisory Board, Office of Executive Councils, General Services Administration, 1776 G Street, NW., Washington, DC 20006.

Dated: August 22, 2011.
Robert Flaak,
Director, Office of Committee and Regulatory Management, General Services Administration.

[FR Doc. 2011-22149 Filed 8-29-11; 8:45 am]

BILLING CODE 6820-BR-P